DEPARTMENT OF AGRICULTURE

Forest Service

36 CFR Part 242

DEPARTMENT OF THE INTERIOR

Fish and Wildlife Service

50 CFR Part 100

Subsistence Management Regulations for Public Lands in Alaska, Subpart D; Emergency Closures and Adjustments—Kuskokwim Drainage, Redoubt Lake, and Yukon Drainage

AGENCIES: Forest Service, USDA; Fish and Wildlife Service, Interior.

ACTION: Emergency closures and adjustments.

SUMMARY: This provides notice of the Federal Subsistence Board's emergency closures and adjustments to protect chinook salmon escapement in the Kuskokwim River drainage, chinook and summer chum salmon escapement in the Yukon River drainage, and sockeye salmon escapement in Redoubt Lake. These closures and adjustments provide an exception to the Subsistence Management Regulations for Public Lands in Alaska, published in the Federal Register on January 8, 1999. Those regulations redefined the area subject to the subsistence priority for rural residents of Alaska under Title VIII of the Alaska National Interest Lands Conservation Act of 1980, and also established regulations for seasons, harvest limits, methods, and means relating to the taking of fish and shellfish for subsistence uses during the 2000 regulatory year.

DATES: The Kuskokwim River drainage closure and restrictions are effective July 10, 2000, through September 10, 2000. The Redoubt Lake closure is effective July 13, 2000, through August 31, 2000. The Yukon River drainage restrictions are effective July 19, 2000, through September 17, 2000.

FOR FURTHER INFORMATION CONTACT: Thomas H. Boyd, Office of Subsistence Management, U.S. Fish and Wildlife Service, telephone (907) 786-3888. For questions specific to National Forest System lands, contact Ken Thompson, Subsistence Program Manager, USDA—Forest Service, Alaska Region, telephone (907) 786-3592.

SUPPLEMENTARY INFORMATION:

Background

Title VIII of the Alaska National Interest Lands Conservation Act (ANILCA) (16 U.S.C. 3111-3126) requires that the Secretary of the Interior and the Secretary of Agriculture (Secretaries) implement a joint program to grant a preference for subsistence uses of fish and wildlife resources on public lands, unless the State of Alaska enacts and implements laws of general applicability that are consistent with ANILCA and that provide for the subsistence definition, preference, and participation specified in Sections 803, 804, and 805 of ANILCA. In December 1989, the Alaska Supreme Court ruled that the rural preference in the State subsistence statute violated the Alaska Constitution and, therefore, negated State compliance with ANILCA.

The Department of the Interior and the Department of Agriculture (Departments) assumed, on July 1, 1990, responsibility for implementation of Title VIII of ANILCA on public lands. Consistent with Subparts A, B, and C of these regulations, as revised January 8, 1999, (64 FR 1276), the Departments established a Federal Subsistence Board to administer the Federal Subsistence Management Program. The Board's composition includes a Chair appointed by the Secretary of the Interior with concurrence of the Secretary of Agriculture; the Alaska Regional Director, U.S. Fish and Wildlife Service; the Alaska Regional Director, U.S. National Park Service; the Alaska State Director, U.S. Bureau of Land Management; the Alaska Regional Director, U.S. Bureau of Indian Affairs; and the Alaska Regional Forester, USDA Forest Service. Through the Board, these agencies participate in the development of regulations for Subparts A, B, and C, and the annual Subpart D regulations.

Because this rule relates to public lands managed by an agency or agencies in both the Departments of Agriculture and the Interior, identical closures and adjustments would apply to 36 CFR part 242 and 50 CFR part 100.

Subpart D regulations for the 2000 fishing seasons and harvest limits, and methods and means were published on January 8, 1999, (64 FR 1276).

These emergency closures and adjustments are necessary because of extremely weak returns of chinook (king) salmon in the Kuskokwim River drainage, of chinook and summer-run chum salmon in the Yukon River drainage, and of sockeye (red) salmon in Redoubt Lake. These emergency actions are authorized and in accordance with 50 CFR 100.19(c) and 36 CFR 242.19(c).

Kuskokwim River Drainage

The Federal Subsistence Board, the Alaska Department of Fish and Game, and subsistence users are concerned that there are not enough king salmon returning to the Kuskokwim River and its tributaries to meet escapement on the spawning grounds. All king salmon escapement monitoring projects are showing extremely weak king salmon returns (60-85% lower than in recent years) throughout the Kuskokwim River drainage. This extremely low escapement could jeopardize the viability of future returns. This is the second consecutive year with poor chinook salmon returns for the Kuskokwim River. Subsistence users are also reporting very low catches of king salmon.

The State Board of Fisheries (BOF) met on Saturday July 8, 2000 to review the status of king salmon returns on the Kuskokwim River and determined that an emergency exists. The BOF then took action to (1) restrict drift and set gill net mesh size to six inches or less for the subsistence fishery in the entire Kuskokwim River drainage, and (2) reduce the daily bag and possession limit in the entire Kuskokwim River drainage to one king salmon when subsistence fishing using a line attached to a rod or pole. In addition, ADF&G has closed the sport fishery for king salmon in the entire Kuskokwim River drainage and no commercial fishing periods are being considered for the Kuskokwim River.

On July 10, the Federal Subsistence Board adopted an emergency action restricting drift and set gillnet mesh size to six inches or less for the subsistence fishery in the Kuskokwim River drainage within the boundaries of the Yukon Delta National Wildlife Refuge, and reducing the daily bag and possession limit in the Kuskokwim River drainage to one chinook salmon with a rod and reel. The gear restriction to six inches or less will minimize the chinook harvest to a few smaller fish (which are predominantly male) while allowing subsistence users the opportunity to continue to harvest chum, sockeye, and coho salmon, whitefish and other resident fish species. The smaller gillnet mesh would also protect the larger female king salmon. Female and large male king salmon are more susceptible to a gillnet with eight inch mesh or larger. The limited rod and reel harvest does allow for subsistence users to catch a king salmon for immediate consumption when necessary. This would also bring the Federal subsistence fishing regulations in line with the similar BOF action for unified management and minimize confusion under the dual management system.

Yukon River Drainage

Returns of chinook and summer chum salmon to the Yukon River are at or near recorded lows. Low catches of chinook salmon have also been reported by many subsistence fishermen. Federal and State Managers and many subsistence users in the region have strong concerns that not enough chinook or summer chum salmon will reach their spawning grounds. All chinook and summer chum salmon escapement monitoring projects show that the returns of these species are very weak throughout the entire Yukon River drainage. The various weirs, sonars and counting stations in the drainage reported chinook salmon returns 41% to 85% below average and summer chum returns 49% to 91% below average.

The Alaska Department of Fish and Game issued Emergency Orders closing sport fishing for chinook and chum salmon in the Yukon drainage and restricting subsistence fishing to certain times each week in the various fishing districts along the river. The commercial and personal use fishery in the Yukon River had previously been closed.

On July 19, the Federal Subsistence Board instituted the following adjustments for the Yukon River drainage:

During any commercial salmon fishing season closure of greater than five days in duration, you may take salmon only during the following periods in the following districts:

(A) In Districts 1, 2, and 3, salmon may be taken from 9:00 a.m. until 9:00 p.m. each Saturday;

(B) In District 4, salmon may be taken from 6:00 p.m. Tuesday until 6:00 p.m. Wednesday and from 6:00 p.m. Friday until 6:00 p.m. Saturday;

(C) In District 5, salmon may be taken from 9:00 p.m. Saturday until 9:00 p.m. Sunday, from 9:00 p.m. Tuesday until 9:00 a.m. Wednesday, and from 9:00 p.m. Thursday until 9:00 a.m. Friday;

(D) In District 6, salmon may be taken from 6:00 p.m. Monday until 6:00 p.m. Tuesday.

During any commercial salmon fishing season closure of greater than five days in duration, you may take fish other than salmon only with gillnets with a stretched mesh size of 4 inches or less or with other legal gear except fishwheels.

These adjustments bring the Federal subsistence fishing regulations in line with the similar ADF&G action for unified management and minimize confusion under the dual management system.

Redoubt Lake

Based on sockeye salmon returns to Redoubt Lake, State and Federal managers project an escapement of 2,300 fish for the 2000 season. This projection represents 6% of the average escapement of 36,000 sockeye during the period 1989-1999. Since the projected escapement is well below desired levels for this system, the system is being closed to provide for spawning escapement needs. The Federal Subsistence Board on July 13 closed the Federal freshwater sockeye subsistence fishery at Redoubt Lake due to the very low escapement numbers. This action parallels ADF&G action that closed both sport and subsistence harvest for sockeye salmon in Redoubt Lake and Bay.

The Board finds that additional public notice and comment requirements under the Administrative Procedures Act (APA) for these emergency closures and adjustments are impracticable, unnecessary, and contrary to the public interest. Lack of appropriate and immediate conservation measures could seriously affect the continued viability of fish populations, adversely impact future subsistence opportunities for rural Alaskans, and would generally fail to serve the overall public interest. Therefore, the Board finds good cause pursuant to 5 U.S.C. 553(d) to waive additional public notice and comment procedures prior to implementation of these actions.

Conformance with Statutory and Regulatory Authorities

National Environmental Policy Act Compliance

A Final Environmental Impact Statement (FEIS) was published on February 28, 1992, and a Record of Decision (ROD) signed April 6, 1992. The final rule for Subsistence Management Regulations for Public Lands in Alaska, Subparts A, B, and C (57 FR 22940-22964, published May 29, 1992) implemented the Federal Subsistence Management Program and included a framework for an annual cycle for subsistence hunting and fishing regulations. A final rule that redefined the jurisdiction of the Federal Subsistence Management Program to include waters subject to the subsistence priority was published on January 8, 1999, (64 FR 1276.)

Compliance with Section 810 of ANILCA

The intent of all Federal subsistence regulations is to accord subsistence uses of fish and wildlife on public lands a priority over the taking of fish and wildlife on such lands for other purposes, unless restriction is necessary to conserve healthy fish and wildlife populations. A Section 810 analysis was completed as part of the FEIS process. The final Section 810 analysis determination appeared in the April 6, 1992, ROD which concluded that the Federal Subsistence Management Program, under Alternative IV with an annual process for setting hunting and fishing regulations, may have some local impacts on subsistence uses, but the program is not likely to significantly restrict subsistence uses.

Paperwork Reduction Act

These emergency closures and adjustments do not contain information collection requirements subject to Office of Management and Budget (OMB) approval under the Paperwork Reduction Act of 1995.

Other Requirements

These emergency closures and adjustments are not subject to OMB review under Executive Order 12866.

The Regulatory Flexibility Act of 1980 (5 U.S.C. 601 et seq.) requires preparation of flexibility analyses for rules that will have a significant effect on a substantial number of small entities, which include small businesses, organizations, or governmental jurisdictions. The Departments determined that these emergency closures and adjustments will not have a significant economic effect on a substantial number of small entities within the meaning of the Regulatory Flexibility Act.

These emergency closures and adjustments will impose no significant costs on small entities.

Title VIII of ANILCA requires the Secretaries to administer a subsistence preference on public lands. The scope of this program is limited by definition to certain public lands. Likewise, these emergency closures and adjustments have no potential takings of private property implications as defined by Executive Order 12630.

The Service has determined and certifies pursuant to the Unfunded Mandates Reform Act, 2 U.S.C. 1502 et seq., that these emergency closures and adjustments will not impose a cost of $100 million or more in any given year on local or State governments or private entities. The implementation is by Federal agencies, and no cost is involved to any State or local entities or Tribal governments.

The Service has determined that these emergency closures and adjustments meet the applicable standards provided in Sections 3(a) and 3(b)(2) of Executive Order 12988.

In accordance with Executive Order 13132, these emergency closures and adjustments do not have sufficient federalism implications to warrant the preparation of a Federalism Assessment. Title VIII of ANILCA precludes the State from exercising management authority over wildlife resources on Federal lands.

In accordance with the President's memorandum of April 29, 1994, “Government-to-Government Relations with Native American Tribal Governments” (59 FR 22951) and 512 DM 2, we have evaluated possible effects on Federally recognized Indian tribes and have determined that there are no effects. The Bureau of Indian Affairs is a participating agency in this rulemaking.

Drafting Information

William Knauer drafted this document under the guidance of Thomas H. Boyd, of the Office of Subsistence Management, Alaska Regional Office, U.S. Fish and Wildlife Service, Anchorage, Alaska. Curt Wilson, Alaska State Office, Bureau of Land Management; Greg Bos, Alaska Regional Office, U.S. Fish and Wildlife Service; Sandy Rabinowitch, Alaska Regional Office, National Park Service; Ida Hildebrand, Alaska Regional Office, Bureau of Indian Affairs; and Ken Thompson, USDA-Forest Service, provided additional guidance.

Authority: 16 U.S.C. 3, 472, 551, 668dd, 3101-3126; 18 U.S.C. 3551-3586; 43 U.S.C. 1733.

Dated: August 18, 2000.
Kenneth E. Thompson,
Subsistence Program Leader, USDA-Forest Service.
Thomas H. Boyd,
Acting Chair, Federal Subsistence Board.

[FR Doc. 00-21613 Filed 8-23-00; 8:45 am]

BILLING CODE 3410-11-P; 4310-55-P